DEPARTMENT OF STATE

[Public Notice 5562]

FY 2006 Funding Under the Research and Training for Eastern Europe and the Independent States of the Former Soviet Union Act of 1983 (Title VIII)

The Under Secretary of State for Political Affairs, acting in the capacity of the Deputy Secretary of State, approved on July 19, 2006, the FY 2006 funding recommendations of the Advisory Committee for the Study of Eastern Europe and the Independent States of the Former Soviet Union. The FY 2006 Title VIII Program grants were awarded in late September 2006. The Title VIII Program, administered by the U.S. Department of State, seeks to build expertise on the countries of Eurasia and Central and East Europe through support to national organizations in the U.S. for advanced research, language and graduate training, and other activities conducted domestically and overseas. The FY 2006 grant recipients are listed below.

1. American Council of Learned Societies

Grant: $498,000 ($498,000 Southeast Europe).

Purpose: To support Language Training Grants, including Summer Language Institutes, Advanced Mastery Courses, Individual Summer Language Training, and the Research Grant on Heritage Speakers; Research Fellowships, including Pre-dissertation Developmental Fellowships, Dissertation Fellowships for Research in Southeast Europe, Dissertation Fellowships for Writing in the U.S., Post-doctoral Fellowships for scholars from other fields to acquire Southeast Europe area expertise, Post-doctoral Research Fellowships for Southeast Europe specialists for research and/or writing; and Field-Building, including the Junior Scholars Training Seminar in collaboration with the Woodrow Wilson Center, Travel Grants for individuals to present papers at conferences, and conferences for formal presentation of significant new research.

Contact: Andrzej W. Tymowski, Director of International Programs, American Council of Learned Societies, 633 Third Avenue, New York, NY 10017-6795, Tel: (646) 485-5945, Fax: (212) 949-8058, E-mail: ANDRZEJ@acls.org.

2. American Councils for International Education

Grant: $508,000 ($408,000—Eurasia, $100,000—Southeast Europe).

Purpose: To support fellowships for research and language training programs in Eurasia and Southeast Europe, including Advanced Russian Language and Area Studies Fellowships, Eurasia Regional Language Fellowships, Combined Research and Language Training Fellowships, Research Scholar Fellowships, Special Initiatives Research Fellowships, Russian Language Flagship Fellowships, and Southeast Europe Language Fellowships.

Contact: Graham Hettlinger, Senior Program Manager, American Councils for International Education, 1776 Massachusetts Avenue, NW., Suite 700, Washington, DC 20036, Tel: (202) 833-7522, ext. 168, Fax: (202) 833-7523, E-mail: hettlinger@americancouncils.org.

3. International Research and Exchanges Board

Grant: $735,000 ($450,000—Eurasia; $285,000—Southeast Europe).

Purpose: To support the Individual Advanced Research Opportunities Program, the Short-Term Travel Grants Program, the U.S. Embassy Policy Specialist Program, the Regional Policy Symposium on the “Contemporary Silk Road” to be jointly conducted with the Kennan Institute, and the Policy Connect Collaborative Research Grants Program.

Contact: Joyce Warner, Director, Academic Exchanges and Research Division, International Research and Exchanges Board, 2121 K Street, NW., Suite 700, Washington, DC 20037, Tel: (202) 628-8188, Fax: (202) 628-8189, E-mail: jwarner@irex.org.

4. National Council for Eurasian and East European Research

Grant: $930,000 ($615,000—Eurasia; $315,000—Southeast Europe).

Purpose: To support the research contracts and fellowship grants of the National Research Program; the Hewett Fellowships; and the Short-term Research Fellowships.

Contact: Robert Huber, President, National Council for Eurasian and East European Research (NCEEER), University of Washington, Rm. 224 Thompson Hall, Box 353650, Seattle, WA 98195-3650, Tel: (206) 543-1666; Fax: (206) 685-0668, E-mail: dc@nceeer.org.

NCEEER's DC office: 910 17th St., NW., Suite 300, Washington, DC 20006, Tel: (202) 822-6950, Fax: (202) 822-6955.

5. Social Science Research Council

Grant: $633,000 ($633,000—Eurasia).

Purpose: To support the National Fellowship Program, including pre-dissertation training, dissertation write-up, post-doctoral research and curriculum development; Field-Building activities, including the Dissertation Development Workshop on understudied regions and topics, the training seminar for policy research and roundtables or panels at major annual conferences; and the National Summer Language Institutes, including advanced Russian and the non-Russian languages of Eurasia.

Contact: Anthony Koliha, Assistant Director, Eurasia Program, Social Science Research Council, 810 Seventh Avenue, 31st Floor, New York, NY 10019, Tel: (212) 377-2700, Fax: (212) 377-2727, E-mail: koliha@ssrc.org.

6. University of Illinois at Urbana-Champaign

Grant: $160,000 ($106,000—Eurasia; $54,000—Southeast Europe).

Purpose: To support the Slavic Reference Service, which provides assistance to scholars in locating hard-to-find resources through electronic library resources, and electronic delivery of reference materials and resources; and the Summer Research Lab, including housing grants for Lab associates conducting policy relevant research on Southeast Europe and Eurasia; the Balkan studies workshop for junior scholars; the Caucasus and Central Asian studies workshop “From Chechnya to Kabul” for junior scholars; travel grants for advanced graduate students conducting policy relevant research on Southeast Europe and Eurasia.

Contact: Merrily Shaw, Assistant to the Director of the Russian, Eurasian and East European Center, University of Illinois at Urbana-Champaign, 104 International Studies Building, 910 South Fifth Street, Champaign, IL 61820, Tel: (217) 244-4721/333-1244, Fax: (217) 333-1582, E-mail: mshaw2@uiuc.edu or reec@uiuc.edu.

7. The Woodrow Wilson International Center for Scholars

Grant: $690,000 ($410,000—Eurasia; $280,000—Southeast Europe).

Purpose: The funds for Southeast Europe support Research Scholars and Research Assistants, Short-term Scholars, the Junior Scholars Training Seminar (JSTS) to be held jointly with the American Council of Learned Societies, Meetings, and Dissemination and Outreach. The funds for Eurasia support Meetings, Dissemination and Outreach, Research Scholars and Research Assistants, Short-term Scholars, a Workshop on “International Development in the Post-Soviet Space,” and the Regional Policy Symposium to be held jointly with IREX on the “Contemporary Silk Road.”

Contact: Martin Sletzinger, Director, East European Studies, Tel: (202) 691-4263, E-mail: martin.sletzinger@wilsoncenter.org.

Maggie Paxson, Senior Associate, Kennan Institute, Tel: (202) 691-4237, E-mail: Margaret.Paxson@wilsoncenter.org.

The Woodrow Wilson Center, 1300 Pennsylvania Avenue, NW., Washington, DC 20004-3027, Fax: (202) 691-4247.

Dated: October 25, 2006.
Susan H. Nelson,
Executive Director, Acting Advisory Committee for Study of Eastern Europe and the Independent States of the Former Soviet Union, Department of State.

[FR Doc. E6-18776 Filed 11-6-06; 8:45 am]

BILLING CODE 4710-32-P